DEPARTMENT OF JUSTICE

Antitrust Division

Notice Pursuant to the National Cooperative Research and Production Act of 1993—Odva, Inc.

Notice is hereby given that, on October 18, 2024, pursuant to section 6(a) of the National Cooperative Research and Production Act of 1993, 15 U.S.C. 4301 et seq. (“the Act”), ODVA, Inc. (“ODVA”) has filed written notifications simultaneously with the Attorney General and the Federal Trade Commission disclosing changes in its membership. The notifications were filed for the purpose of extending the Act's provisions limiting the recovery of antitrust plaintiffs to actual damages under specified circumstances.

Specifically, Alliant Technologies, LLC, Louisville, KY; Brady Worldwide, Inc., Milwaukee, WI; Pinesolution Co Ltd., Pyeongtaek-si, REPUBLIC OF KOREA; ViSCO Technologies Corporation, Tokyo, JAPAN; Sealevel Systems, Inc, Liberty, SC; Delta Line Sa, Lamone, SWITZERLAND, have been added as parties to this venture.

Also, Fluke Electronics Corporation, Everett, WA; Tolomatic, Inc., Hamel, MN; Digital Dynamics, Inc., Scotts Valley, CA; Kinova Robotics, Boisbriand, CANADA; PROCENTEC BV, Wateringen, NETHERLANDS; Univer S.p.A., Milan, ITALY; Hollysys Technology Group Co., Ltd, Beijing, PEOPLE'S REPUBLIC OF CHINA; Guangzhou Zhiyuan Electronics Co., LTD, Guangzhou, PEOPLE'S REPUBLIC OF CHINA; Qlar Europe GmbH, Darmstadt, GERMANY; Sigma (NSW) PTY LTD, Macquarie Park, AUSTRALIA; FASTECH, Gyeonggi-do, REPUBLIC OF SOUTH KOREA; Invensys Operations Management, Foxboro, MA; Western Reserve Controls Inc., Akron, OH, have withdrawn as parties to this venture.

No other changes have been made in either the membership or planned activity of the group research project. Membership in this group research project remains open, and ODVA intends to file additional written notifications disclosing all changes in membership.

On June 21, 1995, ODVA filed its original notification pursuant to section 6(a) of the Act. The Department of Justice published a notice in the Federal Register pursuant to section 6(b) of the Act on February 15, 1996 (61 FR 6039).

The last notification was filed with the Department on June 26, 2024. A notice was published in the Federal Register pursuant to section 6(b) of the Act on September 12, 2024 (89 FR 74290).

Suzanne Morris,
Deputy Director Civil Enforcement Operations, Antitrust Division.

[FR Doc. 2025-01716 Filed 1-23-25; 8:45 am]

BILLING CODE P